DEPARTMENT OF TRANSPORTATION

Federal Aviation Administration

14 CFR Part 97

[Docket No. 30920; Amdt. No. 3555]

Standard Instrument Approach Procedures, and Takeoff Minimums and Obstacle Departure Procedures; Miscellaneous Amendments

AGENCY: Federal Aviation Administration (FAA), DOT.

ACTION: Final rule.

SUMMARY: This rule establishes, amends, suspends, or revokes Standard Instrument Approach Procedures (SIAPs) and associated Takeoff Minimums and Obstacle Departure Procedures for operations at certain airports. These regulatory actions are needed because of the adoption of new or revised criteria, or because of changes occurring in the National Airspace System, such as the commissioning of new navigational facilities, adding new obstacles, or changing air traffic requirements. These changes are designed to provide safe and efficient use of the navigable airspace and to promote safe flight operations under instrument flight rules at the affected airports.

DATES: This rule is effective September 30, 2013. The compliance date for each SIAP, associated Takeoff Minimums, and ODP is specified in the amendatory provisions.

The incorporation by reference of certain publications listed in the regulations is approved by the Director of the Federal Register as of September 30, 2013.

ADDRESSES: Availability of matters incorporated by reference in the amendment is as follows:

For Examination—

1. FAA Rules Docket, FAA Headquarters Building, 800 Independence Avenue SW., Washington, DC 20591;

2. The FAA Regional Office of the region in which the affected airport is located;

3. The National Flight Procedures Office, 6500 South MacArthur Blvd., Oklahoma City, OK 73169 or,

4. The National Archives and Records Administration (NARA). For information on the availability of this material at NARA, call 202-741-6030, or go to: http://www.archives.gov/federal_register/code_of_federal_regulations/ibr_locations.html.

Availability—All SIAPs and Takeoff Minimums and ODPs are available online free of charge. Visit http://www.nfdc.faa.gov to register. Additionally, individual SIAP and Takeoff Minimums and ODP copies may be obtained from:

1. FAA Public Inquiry Center (APA-200), FAA Headquarters Building, 800 Independence Avenue SW., Washington, DC 20591; or

2. The FAA Regional Office of the region in which the affected airport is located.

FOR FURTHER INFORMATION CONTACT: Richard A. Dunham III, Flight Procedure Standards Branch (AFS-420), Flight Technologies and Programs Divisions, Flight Standards Service, Federal Aviation Administration, Mike Monroney Aeronautical Center, 6500 South MacArthur Blvd. Oklahoma City, OK. 73169 (Mail Address: P.O. Box 25082, Oklahoma City, OK 73125) Telephone: (405) 954-4164.

SUPPLEMENTARY INFORMATION: This rule amends Title 14 of the Code of Federal Regulations, Part 97 (14 CFR part 97), by establishing, amending, suspending, or revoking SIAPS, Takeoff Minimums and/or ODPS. The complete regulators description of each SIAP and its associated Takeoff Minimums or ODP for an identified airport is listed on FAA form documents which are incorporated by reference in this amendment under 5 U.S.C. 552(a), 1 CFR part 51, and 14 CFR part 97.20. The applicable FAA Forms are FAA Forms 8260-3, 8260-4, 8260-5, 8260-15A, and 8260-15B when required by an entry on 8260-15A.

The large number of SIAPs, Takeoff Minimums and ODPs, in addition to their complex nature and the need for a special format make publication in the Federal Register expensive and impractical. Furthermore, airmen do not use the regulatory text of the SIAPs, Takeoff Minimums or ODPs, but instead refer to their depiction on charts printed by publishers of aeronautical materials. The advantages of incorporation by reference are realized and publication of the complete description of each SIAP, Takeoff Minimums and ODP listed on FAA forms is unnecessary. This amendment provides the affected CFR sections and specifies the types of SIAPs and the effective dates of the, associated Takeoff Minimums and ODPs. This amendment also identifies the airport and its location, the procedure, and the amendment number.

The Rule

This amendment to 14 CFR part 97 is effective upon publication of each separate SIAP, Takeoff Minimums and ODP as contained in the transmittal. Some SIAP and Takeoff Minimums and textual ODP amendments may have been issued previously by the FAA in a Flight Data Center (FDC) Notice to Airmen (NOTAM) as an emergency action of immediate flight safety relating directly to published aeronautical charts. The circumstances which created the need for some SIAP and Takeoff Minimums and ODP amendments may require making them effective in less than 30 days. For the remaining SIAPS and Takeoff Minimums and ODPS, an effective date at least 30 days after publication is provided.

Further, the SIAPs and Takeoff Minimums and ODPS contained in this amendment are based on the criteria contained in the U.S. Standard for Terminal Instrument Procedures (TERPS). In developing these SIAPS and Takeoff Minimums and ODPs, the TERPS criteria were applied to the conditions existing or anticipated at the affected airports. Because of the close and immediate relationship between these SIAPs, Takeoff Minimums and ODPs, and safety in air commerce, I find that notice and public procedures before adopting these SIAPS, Takeoff Minimums and ODPs are impracticable and contrary to the public interest and, where applicable, that good cause exists for making some SIAPs effective in less than 30 days.

Conclusion

The FAA has determined that this regulation only involves an established body of technical regulations for which frequent and routine amendments are necessary to keep them operationally current. It, therefore—(1) is not a “significant regulatory action” under Executive Order 12866; (2) is not a “significant rule ” under DOT Regulatory Policies and Procedures (44 FR 11034; February 26,1979); and (3) does not warrant preparation of a regulatory evaluation as the anticipated impact is so minimal. For the same reason, the FAA certifies that this amendment will not have a significant economic impact on a substantial number of small entities under the criteria of the Regulatory Flexibility Act.

List of Subjects in 14 CFR part 97

Air Traffic Control, Airports, Incorporation by reference, and Navigation (Air).

Issued in Washington, DC on September 13, 2013.
John Duncan,
Director, Flight Standards Service.

Adoption of the Amendment

Accordingly, pursuant to the authority delegated to me, Title 14, Code of Federal Regulations, Part 97 (14 CFR part 97) is amended by establishing, amending, suspending, or revoking Standard Instrument Approach Procedures and/or Takeoff Minimums and/or Obstacle Departure Procedures effective at 0902 UTC on the dates specified, as follows:

PART 97—STANDARD INSTRUMENT APPROACH PROCEDURES

1. The authority citation for part 97 continues to read as follows:

Authority: 49 U.S.C. 106(g), 40103, 40106, 40113, 40114, 40120, 44502, 44514, 44701, 44719, 44721-44722.

2. Part 97 is amended to read as follows:

* * * Effective 17 October 2013

Deadhorse, AK, Deadhorse, Takeoff Minimums and Obstacle DP, Amdt 3

Homer, AK, Homer, LOC/DME RWY 4, Amdt 10

Kaltag, AK, Kaltag, RNAV (GPS) RWY 3, Orig-B

Kiana, AK, Bob Baker Memorial, RNAV (GPS) RWY 6, Orig-A

Nome, AK, Nome, RNAV (GPS) RWY 10, Amdt 1

Nome, AK, Nome, RNAV (GPS) RWY 28, Amdt 1

Point Hope, AK, Point Hope, RNAV (GPS) RWY 1, Amdt 1

Point Hope, AK, Point Hope, RNAV (GPS) RWY 19, Amdt 1

Point Hope, AK, Point Hope, Takeoff Minimums and Obstacle DP, Amdt 1

San Francisco, CA, San Francisco Intl, ILS OR LOC RWY 19L, Amdt 20A

San Francisco, CA, San Francisco Intl, ILS OR LOC RWY 28L, ILS RWY 28L (SA CAT II), Amdt 24A

San Francisco, CA, San Francisco Intl, RNAV (GPS) RWY 19L, Amdt 2A

Fort Lauderdale, FL, Fort Lauderdale/Hollywood Intl, ILS OR LOC RWY 10L, Amdt 23

Jacksonville, FL, Jacksonville Intl, RNAV (RNP) Y RWY 8, Orig-A

Jacksonville, FL, Jacksonville Intl, RNAV (RNP) Y RWY 14, Orig-A

Jacksonville, FL, Jacksonville Intl, RNAV (RNP) Y RWY 32, Amdt 1

Ormond Beach, FL, Ormond Beach Muni, RNAV (GPS) RWY 8, Amdt 1

Ormond Beach, FL, Ormond Beach Muni, RNAV (GPS) RWY 17, Amdt 1

Ormond Beach, FL, Ormond Beach Muni, RNAV (GPS) RWY 26, Amdt 1

Panama City, FL, Northwest Florida Beaches Intl, RNAV (GPS) RWY 34, Amdt 2A

St Petersburg-Clearwater, FL, St Petersburg-Clearwater Intl, VOR/DME-B, Orig

Valdosta, GA, Valdosta Rgnl, RNAV (GPS) RWY 4, Amdt 1

Valdosta, GA, Valdosta Rgnl, RNAV (GPS) RWY 17, Amdt 2

Chicago, IL, Chicago O'Hare Intl, ILS OR LOC RWY 10C, ILS RWY 10C (SA CAT I), ILS RWY 10C (CAT II), ILS RWY 10C (CAT III), Orig

Chicago, IL, Chicago O'Hare Intl, ILS OR LOC RWY 28C, ILS RWY 28C (SA CAT I), ILS RWY 28C (CAT II), ILS RWY 28C (CAT III), Orig

Chicago, IL, Chicago O'Hare Intl, RNAV (GPS) RWY 10C, Orig

Chicago, IL, Chicago O'Hare Intl, RNAV (GPS) RWY 28C, Orig

Peoria, IL, Mount Hawley Auxiliary, RNAV (GPS) RWY 18, Amdt 1

Kendallville, IN, Kendallville Muni, VOR/DME-A, Orig-A, CANCELED

Cumberland, MD, Greater Cumberland Rgnl, RNAV (GPS) RWY 5, Amdt 1A

Hagerstown, MD, Hagerstown Rgnl-Richard A Henson Fld, RNAV (GPS) RWY 9, Amdt 1

Hagerstown, MD, Hagerstown Rgnl-Richard A Henson Fld, Takeoff Minimums and Obstacle DP, Amdt 6

Lapeer, MI, Dupont-Lapeer, RNAV (GPS) RWY 18, Orig

Lapeer, MI, Dupont-Lapeer, RNAV (GPS) RWY 36, Orig

Elbow Lake, MN, Elbow Lake Muni—Pride of the Prairie, RNAV (GPS) RWY 14, Orig

Elbow Lake, MN, Elbow Lake Muni—Pride of the Prairie, RNAV (GPS) RWY 32, Orig

Elbow Lake, MN, Elbow Lake Muni—Pride of the Prairie, Takeoff Minimums and Obstacle DP, Orig

Marks, MS, Selfs, RNAV (GPS) RWY 2, Amdt 1

Marks, MS, Selfs, RNAV (GPS) RWY 20, Amdt 1

Fayetteville, NC, Fayetteville Rgnl/Grannis Field, ILS OR LOC/DME RWY 4, Amdt 17

Binghamton, NY, Greater Binghamton/Edwin A Link Field, ILS OR LOC RWY 34, Amdt 4

New York, NY, La Guardia, ILS OR LOC RWY 4, Amdt 36

Poughkeepsie, NY, Dutchess County, Takeoff Minimums and Obstacle DP, Amdt 2

Mc Alester, OK, Mc Alester Regional, VOR-A, Amdt 13A, CANCELED

Weatherford, OK, Thomas P Stafford, RNAV (GPS) RWY 35, Amdt 1A

Mount Pocono, PA, Pocono Mountains Muni, VOR/DME RWY 13, Amdt 8

Pittsburgh, PA, Pittsburgh Intl, ILS OR LOC RWY 32, Amdt 13A

Sterling, PA, Spring Hill, RNAV (GPS)-A, Amdt 1

Sterling, PA, Spring Hill, VOR-B, Orig, CANCELED

Sterling, PA, Spring Hill, VOR/DME-B, Orig

Wilkes-Barre, PA, Wilkes-Barre Wyoming Valley, RNAV (GPS) RWY 25, Orig-A

Wilkes-Barre/Scranton, PA, Wilkes-Barre/Scranton Intl, ILS OR LOC/DME RWY 4, Amdt 37

Wilkes-Barre/Scranton, PA, Wilkes-Barre/Scranton Intl, ILS OR LOC/DME RWY 22, Amdt 8

Wilkes-Barre/Scranton, PA, Wilkes-Barre/Scranton Intl, RNAV (GPS) RWY 4, Amdt 1

Wilkes-Barre/Scranton, PA, Wilkes-Barre/Scranton Intl, RNAV (GPS) RWY 22, Amdt 1

Wilkes-Barre/Scranton, PA, Wilkes-Barre/Scranton Intl, Takeoff Minimums and Obstacle DP, Amdt 3

Cheraw, SC, Cheraw Muni/Lynch Bellinger Field, RNAV (GPS) RWY 26, Amdt 1

Cheraw, SC, Cheraw Muni/Lynch Bellinger Field, VOR/DME RWY 8, Amdt 3

Walterboro, SC, Lowcountry Rgnl, ILS OR LOC/DME RWY 23, Amdt 1A

Knoxville, TN, Knoxville Downtown Island, RNAV (GPS) RWY 26, Orig-A

Brookneal, VA, Brookneal/Campbell County, Takeoff Minimums and Obstacle DP, Amdt 1

Brookneal, VA, Brookneal/Campbell County, VOR/DME-A, Amdt 2

Norfolk, VA, Norfolk Intl, RNAV (GPS) RWY 32, Orig-C

Bennington, VT, William H. Morse State, RNAV (GPS) RWY 13, Orig-C

* * * Effective 14 November 2013

Washington, DC, Washington Dulles Intl, VOR/DME RWY 12, Amdt 9A

New Orleans, LA, Louis Armstrong New Orleans Intl, RADAR-1, Amdt 17A, CANCELED

[FR Doc. 2013-23494 Filed 9-27-13; 8:45 am]

BILLING CODE 4910-13-P